DEPARTMENT OF THE INTERIOR

Minerals Management Service

Environmental Assessment Prepared for Proposed Central Gulf Sale 182 on the Gulf of Mexico Outer Continental Shelf (OCS)

AGENCY: Minerals Management Service, Interior.

ACTION: Notice of availability of the environmental assessment on proposed Central Gulf of Mexico Lease Sale 182.

SUMMARY: The Minerals Management Service (MMS) has prepared an environmental assessment (EA) for the proposed annual Lease Sale 182 for the Central Planning Area of the Gulf of Mexico Outer Continental Shelf. In this EA, the MMS reexamined the potential environmental effects of the proposed action and alternatives based on any new information regarding potential impacts and issues that was not available at the time the Final Environmental Impact Statement (FEIS) for Lease Sales 169, 172, 175, 178, and 182 was prepared.

No new significant impacts were identified for proposed Lease Sale 182 that were not already assessed in the FEIS for Lease Sales 169, 172, 175, 178, and 182. As a result, MMS determined that a supplemental EIS is not required and prepared a Finding of No New Significant Impact.

A copy of the EA is available to the public upon request from the Minerals Management Service, Gulf of Mexico OCS Region, Attention: Public Information Office (MS 5034), 1201 Elmwood Park Boulevard, Room 114, New Orleans, Louisiana 70123-2394 or by calling 1-800-200-GULF.

FOR FURTHER INFORMATION CONTACT: Minerals Management Service, Gulf of Mexico OCS Region, 1201 Elmwood Park Boulevard, New Orleans, Louisiana 70123-2394, Mr. Alvin Jones, telephone (504) 736-1713.

Dated: September 25, 2001.
Chris C. Oynes,
Regional Director, Gulf of Mexico OCS Region.

[FR Doc. 01-28923 Filed 11-19-01; 8:45 am]

BILLING CODE 4310-MR-P